CIVIL RIGHTS COMMISSION

Sunshine Act Meeting Notice

AGENCY: United States Commission on Civil Rights.

ACTION: Notice of Commission public business meeting.

DATES: Friday June 19, 2020, 10:00 a.m. ET.

ADDRESSES: Meeting to take place by telephone and open to the public by telephone: 800-289-0527, Conference ID 709-2711. Computer assisted real-time transcription (CART) will be provided. The web link to access CART (in English) on Friday, June 19, 2020, is https://www.streamtext.net/player?event=USCCR. Please note that CART is text-only translation that occurs in real time during the meeting and is not an exact transcript.

FOR FURTHER INFORMATION CONTACT: Zakee Martin: 202-376-7700; publicaffairs@usccr.gov.

SUPPLEMENTARY INFORMATION:

Meeting Agenda

I. Approval of Agenda

II. Business Meeting

A. Discussion and vote on the Commission's report, Subminimum Wages: Impacts on the Civil Rights of People with Disabilities

B. Discussion and vote on Commission Advisory Committees

• Minnesota Advisory Committee

• Vermont Advisory Committee

C. Discussion and vote on Administrative Instruction 5-7, Advisory Committee Meetings and Reports

D. Discussion and vote on timelines for Commission short-term projects on civil rights impacts of the COVID-19 pandemic

E. Discussion and vote on Administrative Instruction 5-9, Advisory Committee Appointments

F. Update from Staff Director on virtual briefing

G. Management and Operations

• Staff Director's Report

III. Adjourn Meeting

Dated: June 9, 2020.
David Mussatt,
Supervisory Chief, Regional Programs Unit.

[FR Doc. 2020-12779 Filed 6-10-20; 11:15 am]

BILLING CODE P